DEPARTMENT OF ENERGY

Federal Energy Regulatory Commission

[Project No. 2106-059]

Pacific Gas and Electric Company; Notice of Application Accepted for Filing, Soliciting Motions To Intervene and Protests, Ready for Environmental Analysis, Soliciting Comments, Recommendations, Preliminary Terms and Conditions, and Preliminary Fishway Prescriptions, and Intent To Prepare an Environmental Impact Statement

December 1, 2009.

Take notice that the following hydroelectric application has been filed with the Commission and is available for public inspection.

a. Type of Application: New Major License.

b. Project No.: 2106-059.

c. Date Filed: July 16, 2009.

d. Applicant: Pacific Gas and Electric Company (PG&E).

e. Name of Project: McCloud-Pit Hydroelectric Project.

f. Location: The existing project is located on the McCloud and Pit Rivers in Shasta County, California. The project occupies lands of the United States, managed by the United States Department of Agriculture—Forest Service and the United States Department of Interior—Bureau of Land Management.

g. Filed Pursuant to: Federal Power Act 16 USC 791 (a)-825(r).

h. Applicant Contact: Randal S. Livingston, Vice President—Power Generation, Pacific Gas and Electric Company, P.O. Box 770000, Mail Code N11E, San Francisco, CA 94177-0001; Telephone (415) 973-7000.

i. FERC Contact: Emily Carter at (202) 502-6512 or emily.carter@ferc.gov.

j. Deadline for filing motions to intervene and protests, comments, recommendations, preliminary terms and conditions, and preliminary fishway prescriptions is 60 days from the issuance of this notice; reply comments are due 105 days from the issuance date of this notice.

The Commission's Rules of Practice require all intervenors filing documents with the Commission to serve a copy of that document on each person on the official service list for the project. Further, if an intervenor files comments or documents with the Commission relating to the merits of an issue that may affect the responsibilities of a particular resource agency, they also must serve a copy of the document on that resource agency.

Motions to intervene, protests, comments, recommendations, preliminary terms and conditions, and preliminary fishway prescriptions may be filed electronically via the Internet. See 18 C.F.R. 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents also may be paper-filed. To paper-file, mail an original and eight copies to: Kimberly D. Bose, Secretary, Federal Energy Regulatory Commission, 888 First Street, NE., Washington, DC 20426.

k. Cooperating Agencies: We are asking federal, state, local, and tribal agencies with jurisdiction and/or special expertise with respect to environmental issues to cooperate with us in the preparation of the environmental document. Agencies who would like to request cooperating status should follow the instructions in item l below.

l. Deadline for filing requests for cooperating agency status: February 1, 2010.

m. This application has been accepted for filing and is now is ready for environmental analysis.

n. Project Description: The existing McCloud-Pit Project consists of three existing developments (James B. Black, Pit 6, and Pit 7), which collectively include two storage reservoirs (McCloud and Iron Canyon), two regulating reservoirs (Pit 6 and Pit 7), one afterbay (Pit 7), two tunnels, three powerhouses (James B. Black, Pit 6, and Pit 7), and associated equipment and transmission facilities. The project has an installed capacity of 368 megawatts (MW), produces an average annual generation of 1,542 gigawatt-hours (GWh), and occupies 3,707.6 acres of land. Approximately 1,651.4 of these acres are federally owned, with 1,621.9 managed by the Shasta-Trinity National Forest and 29.5 managed by the U.S. Bureau of Land Management. In addition to the existing facilities, PG&E is proposing to construct two generation additions consisting of powerhouses at the base of McCloud dam (5-8 MW) and at the base of Pit 7 Afterbay dam (10 MW).

The project involves the transfer of water from the McCloud River basin to the Lower Pit River basin via a tunnel from the McCloud reservoir to Iron Canyon reservoir. Iron Canyon reservoir is on Iron Canyon creak, a tributary of the Pit River. Water flows from Iron Canyon reservoir via a tunnel to the James B. Black powerhouse. Although the project diverts water from the McCloud River basin to the Lower Pit River basin, both basins drain to Shasta Lake.

James B. Black Development

McCloud Dam and McCloud Reservoir

McCloud dam is a 241-foot-high, 630-foot-long earth and rock filled dam located on the McCloud River and impounds McCloud reservoir. The McCloud reservoir has a surface area of 520 acres and a maximum storage capacity of approximately 35,234 acre-feet (af). The spillway [elevation 2,696.0 feet National Geodetic Vertical Datum (NGVD)] is on the south side of the dam. The reservoir has a normal maximum water surface elevation of 2,680 feet. The dam is equipped with three radial gates measuring 27 feet by 24.5 feet, discharging into a spillway that returns spillage flows to the McCloud River below the dam. The dam also has a 12-foot diameter diversion/outlet tunnel that runs under the dam to supply a 24-inch Howell-Bunger valve for releasing instream flows to the McCloud River, as well as an 84-inch diameter butterfly valve for emergency use to control reservoir levels. Controls for the diversion/outlet tunnel are located at the intake within McCloud reservoir.

McCloud Tunnel

A 7.2-mile-long tunnel and a 563-foot-long pipeline at Hawkins Creek crossing hydraulically link McCloud reservoir and Iron Canyon reservoir. An intake tower within McCloud reservoir collects water for the McCloud tunnel, which is approximately 17 feet in diameter and heads easterly to Iron Canyon reservoir. The differential in water surface elevations between the two reservoirs controls the amount of water drafted through the tunnel.

Iron Canyon Dam and Reservoir

An earth-filled dam 214-feet-high and 1,130-feet-long impounds Iron Canyon reservoir. The reservoir has a maximum storage capacity of 24,241 af with an approximate 500-acre surface area. The dam has a slide gate leading to a 48-inch diameter pipe for instream flow releases to Iron Canyon Creek. Normal maximum water surface elevation within the reservoir is 2,664 feet NGVD. When the water surface of Iron Canyon reservoir is lowered, water flows through the McCloud tunnel from McCloud reservoir to Iron Canyon reservoir.

Iron Canyon Tunnel and Penstock

Iron Canyon reservoir is connected to James B. Black powerhouse via the 2.9-mile long, 18-foot diameter Iron Canyon Tunnel, an associated 1,194-foot-long, 11.5-foot diameter pipeline at the Willow Spring Creek crossing, and a 5,467-foot-long, 11.5-foot diameter steel penstock. The penstock bifurcates before James B. Black powerhouse to deliver water flow to the two turbine generator units. The tunnel and penstock have a total flow capacity of 2,000 cfs.

James B. Black Powerhouse

James B. Black powerhouse is located on the northwest bank of the Pit River, approximately 0.5 miles upstream of the Pit 5 Project powerhouse (FERC Project No. 233). The powerhouse is a three-level, reinforced concrete structure containing two vertical shaft impulse turbines rated at 104,000 hp each. They operate at a normal maximum gross head of 1,226 feet. Two vertical axis outdoor generators, Unit 1 rated at 94.8 megavolt-ampere (MVA) and Unit 2 rated at 92.6 MVA, are connected to a three phase, 86 MVA transformer bank. Their combined maximum capacity is 172 MW. Average annual generation within the past 25 years at the station is 656.3 GWh.

Transmission

Transmission lines (230 kilovolt [kV]) extend approximately 0.5 mile from the transformer bank in the switchyard adjacent to the James B. Black powerhouse to the switchyard adjacent to the Pit 5 powerhouse.

Pit 6 Development

Pit 6 Dam and Reservoir

Pit 6 dam and reservoir are located on the Pit River downstream of James B. Black powerhouse. The 183-foot-high, 560-foot-long concrete gravity Pit 6 dam has a crest elevation of 1,432 feet NGVD. The top of the dam contains a trash rake, motors for two 42-foot-high by 49-foot-long slide gates and a control building. The control building houses a hydraulic system for two low-level, eight-foot diameter outlets at the base of the dam. The Pit 6 reservoir has a maximum storage capacity of approximately 15,619 af and a maximum surface area of approximately 268 acres. The normal maximum water surface elevation within the reservoir is 1,425 feet NGVD. The reservoir serves as the forebay for the Pit 6 powerhouse. Two 18-foot diameter steel penstocks with a total flow capacity of 6,470 cfs extend 602 feet from the dam to the turbines in the powerhouse located at the base of the dam.

Pit 6 Powerhouse

Pit 6 powerhouse is located along the east bank of the Pit River at the base of Pit 6 dam. The powerhouse is a four-level reinforced concrete structure, three levels of which are below grade. The structure contains two vertical shaft, Francis reaction turbines, rated at 53,000 hp each and operating at a normal maximum gross head of 155 feet. There are two outdoor vertical axis generators, rated at 44 MVA each, with each unit connected to a three-phase 44 MVA transformer bank that steps up plant output to 230 kV. The maximum generator capacity is 80 MW. Average annual generation over the last 25 years is 373.8 GWh.

Transmission

Transmission lines extend approximately 3.3 miles from the switchyard adjacent to the Pit 6 powerhouse to the Applicant's interconnected transmission system.

Pit 7 Development

Pit 7 Dam and Reservoir

Pit 7 dam and reservoir are located on the Pit River downstream of Pit 6 powerhouse. The Pit 7 dam is a 228-foot-high and 770-foot-long concrete gravity dam. The top of the dam contains a trash rake, motors for two 49-foot by 42-foot slide gates at the crest of the dam, and a control building. The control building houses hydraulic controls for two eight-foot in diameter, low-level outlets at the base of the dam. The Pit 7 reservoir has a maximum storage capacity of 34,611 af and a surface area of approximately 471 acres at a normal maximum water surface elevation of 1,270 feet NGVD. As with Pit 6, the Pit 7 reservoir serves at the forebay for the Pit 7 powerhouse. Two penstocks, 15 feet in diameter, extend 572 feet from the dam to the turbines in the powerhouse, located at the base of the dam. Total flow capacity within the penstocks is 7,440 cfs.

Pit 7 Powerhouse

Pit 7 powerhouse is located along the east bank of the Pit River at the base of Pit 7 dam. The powerhouse consists of a four-level, reinforced concrete structure, three levels of which are below grade. The powerhouse contains two vertical-shaft reaction turbines that are rated at 70,000 hp each and operate at a normal maximum gross head of 205 feet. Two vertical axis generators are rated at 52.2 (Unit 2) and 62.1 MVA (Unit 1), respectively. Their maximum combined capacity is 112 MW. Each unit is connected to a three-phase, 58 MVA transformer bank that steps up plant output to 230 kV. The average annual generation over the last 25 years is 512 GWh.

Transmission

Transmission lines extend approximately 3.5 miles from the switchyard adjacent to the Pit 7 powerhouse to the Applicant's interconnected transmission system.

Pit 7 Afterbay

Pit 7 afterbay has a surface area of approximately 69 acres at a normal “maximum” water surface elevation of 1,067 feet NGVD (maximum water surface of Shasta Lake). The afterbay dam is a 30-foot-high, steel-reinforced, rock-fill structure, including a variable width concrete gravity weir section. Pit 7 afterbay serves to attenuate changes in the water flow from Pit 7 dam and powerhouse before entering Shasta Lake.

Proposed Facilities

McCloud Development

PG&E proposes to construct a powerhouse located at the base of McCloud dam. Generation output from the proposed powerhouse would be connected to a new transmission line that would be routed from the proposed powerhouse to connect to an existing substation located approximately 14 miles to the north, in the town of McCloud, California. McCloud Development would use water stored in McCloud Reservoir and released into the Lower McCloud River to meet instream flow requirements and no new impoundments are proposed. With a flow range of 150 cfs to 400 cfs, the turbine and generator set would have an installed capacity of about 5 to 8 MW. The proposed McCloud Development would have an average range of annual energy production of 30 to 40 GWh and average monthly generation would be approximately 2.5 to 3.3 GWh. PG&E proposes to base the final size of the unit, powerhouse hydraulic capacity, and average annual energy production on instream flow requirements included in the new project license.

The proposed powerhouse would be positioned to the south of the current outlet works control building and would be a reinforced concrete-and-block masonry structure designed to enclose and protect the electro-mechanical generation equipment, withstand area snow loads, and prevent possible vandalism. It would be accessed via the existing project road that connects to Forest Road 38N11. The powerhouse would be equipped with a single vertical-axis Francis turbine. The turbine, which would have a discharge diameter of approximately 54 inches, would operate at about 450 revolutions per minute. The direct-coupled synchronous generator rating would range from 5,600 to 7,500 kW.

The proposed transmission line route from the powerhouse would follow Forest Road 38N11 and then county roads to the existing substation approximately 14 miles north in the town of McCloud.

Pit 7 Afterbay Development

PG&E proposes to construct at Pit 7 Afterbay Development, including a powerhouse located on the west side of Pit 7 Afterbay dam at the regulating weir. Generation output from the proposed powerhouse would be connected to a new transmission line that would be routed from the powerhouse to connect to the switchyard located approximately 1.6 miles to the east at Pit 7 powerhouse. The proposed facilities would have no meaningful storage and would operate in a run-of-the-river mode. The available flows for energy production would be dictated by the operation of the upstream Pit 7 powerhouse.

The proposed Pit 7 Afterbay powerhouse would use water released upstream from Pit 7 powerhouse and dam and no new impoundments are proposed. The proposed powerhouse would be configured for two horizontal-axis synchronous generating units, each rated at 5,500 kW and housed in an approximately 30-foot-wide x 110-foot-long intake approach bay. Each of the generating bays would have a design flow of 2,500 cfs. The upstream entrance to each intake bay would include a trashrack to stop large debris from entering the unit. Two radial gates approximately 26-foot-wide by 52-foot-high would be constructed upstream of the unit to regulate flow and for dewatering the turbine pit. A roller gate would be constructed at the downstream end of each bay or the tailrace to prevent backwatering during maintenance. A combination of ramps, walkways, and ladders would be used in each bay to allow for maintenance access and support the gate operator mechanism. A 20-foot-wide bypass flow bay, which would house a radial gate and operator, would be built in the first phase of construction. The bypass flow bay would be used to pass river flows during the second phase of construction and during times of non-generation. The bypass flow bay also would require a walkway to allow maintenance and operation access and support the gate operator mechanism. A new access road would be constructed to access the powerhouse for construction, operation, and maintenance. The access road would extend between Fenders Ferry Road and the afterbay, just west of Fenders Ferry Bridge. Based on a flow range of 2,500 cfs to 5,000 cfs, the 2-unit powerhouse would accommodate turbine and generator sets capable of an installed capacity of about 5 MW each for a total of 10 MW. The average monthly generation from this proposed powerhouse would be approximately 4.2 GWh.

The proposed powerhouse substation would be fenced and located on the ground near the control house, but above the maximum anticipated flood and tailwater levels. Substation equipment would include a step-up substation to transform energy for the transmission line. Powerhouse controls and switchgear would be installed in a separate building located on the right bank of the river, positioned above the maximum anticipated water level and inside the substation fence. The building would house the required equipment for control and protection of the generation units and would be equipped with electric heating and cooling. The transmission line would be a 1.6-mile-long, 34.5-kV, wooden-pole line connecting the proposed powerhouse to a new 34.5- to 230-kV transformer, positioned at or near the existing 230-kV Pit 7 switchyard. A new 230-kV circuit breaker and disconnect switch would be connected by a short span to the main bus of the existing Pit 7 switchyard.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

p. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” “PRELIMINARY FISHWAY PRESCRIPTIONS,” or “COOPERATING AGENCY;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. Procedural Schedule (supersedes Procedural Schedule notice dated July 29, 2009): The application will be processed according to the following revised Hydro Licensing Schedule. Revisions to the schedule may be made as appropriate.

Milestone | Target date
Filing of recommendations, preliminary terms and conditions, and preliminary fishway prescriptions | 02/01/2010
Commission issues Draft EIS | 09/13/2010
Comments on Draft EIS | 11/12/2010
Modified Terms and Conditions | 01/11/2011
Commission Issues Final EIS | 04/11/2011

r. Final amendments to the application must be filed with the Commission no later than 30 days from the issuance date of this notice.

s. A license applicant must file, no later than 60 days following the date of issuance of the notice of acceptance and ready for environmental analysis provided for in § 5.22: (1) a copy of the water quality certification; (2) a copy of the request for certification, including proof of the date on which the certifying agency received the request; or (3) evidence of waiver of water quality certification.

Kimberly D. Bose,
Secretary.

[FR Doc. E9-29282 Filed 12-8-09; 8:45 am]

BILLING CODE 6717-01-P